DEPARTMENT OF COMMERCE

Bureau of Economic Analysis

Agency Information Collection Activities; Submission to the Office of Management and Budget (OMB) for Review and Approval; Comment Request; Services Surveys: BE-30, Quarterly Survey of Ocean Freight Revenues and Foreign Expenses of U.S. Carriers, and the BE-37, Quarterly Survey of U.S. Airline Operators' Foreign Revenues and Expenses

AGENCY: Bureau of Economic Analysis, Commerce.

ACTION: Notice of information collection, request for comment.

SUMMARY: The Department of Commerce, in accordance with the Paperwork Reduction Act of 1995 (PRA), invites the general public and other Federal agencies to comment on proposed and continuing information collections, which helps us assess the impact of our information collection requirements and minimize the public's reporting burden. The purpose of this notice is to allow for 60 days of public comment preceding submission of the collection to OMB.

DATES: To ensure consideration, comments regarding this proposed information collection must be received on or before November 19, 2021.

ADDRESSES: Interested persons are invited to submit written comments to Christopher Stein, Chief, Services Surveys Branch, Bureau of Economic Analysis, by email to christopher.stein@bea.gov or PRAcomments@doc.gov. Please reference OMB Control Number 0608-0011 in the subject line of your comments. Do not submit Confidential Business Information or otherwise sensitive or protected information.

FOR FURTHER INFORMATION CONTACT: Requests for additional information or specific questions related to collection activities should be directed to Christopher Stein, Chief, Services Surveys Branch, Bureau of Economic Analysis, 301-278-9189, or via email to christopher.stein@bea.gov.

SUPPLEMENTARY INFORMATION:

I. Abstract

The Quarterly Survey of Ocean Freight Revenues and Foreign Expenses of U.S. Carriers (BE-30) collects data from U.S. ocean freight carriers (owners and operators) that engaged in the international transportation of freight, cargo, and/or passengers between U.S. and foreign ports or between foreign ports, if total covered revenues or total covered expenses were $500,000 or more in the previous year or are expected to be $500,000 or more during the current year.

The Quarterly Survey of U.S. Airline Operators' Foreign Revenues and Expenses (BE-37) collects data from U.S. airline operators engaged in the international transportation of passengers or of U.S. export freight, or the transportation of freight or passengers between two foreign points, if total covered revenues or total covered expenses were $500,000 or more in the previous year or are expected to be $500,000 or more during the current year.

The data are needed to monitor trade in transport services, to analyze the impact of U.S. trade on the U.S. and foreign economies, to compile and improve the U.S. economic accounts, to support U.S. commercial policy on trade in transport services, to conduct trade promotion, and to improve the ability of U.S. businesses to identify and evaluate market opportunities. The data are used in estimating the transport services component of the U.S. international transactions accounts (ITAs) and national income and product accounts (NIPAs).

The Bureau of Economic Analysis (BEA) is proposing modifications to the information collected on the BE-37 survey, and a change to the BE-30 and BE-37 surveys' due dates, beginning with the reporting period for first quarter 2022. The proposed modifications to the BE-37 survey would eliminate the collection of certain items not currently needed to estimate international transactions in air transportation services, and introduce new items that will increase the quality and usefulness of BEA's statistics on trade in transport services. BEA proposes the following changes to the BE-37 survey:

BEA proposes to eliminate the collection of several items on the BE-37 survey: (1) Total revenue from transporting passengers originating from, or destined to, points outside the United States; (2) total revenue from transporting passengers to and/or from the United States, (3) interline settlement receipts from foreign airline operators; and (4) interline settlement payments to foreign airline operators. BEA proposes to eliminate these items because the information collected is not currently used to estimate international transactions in air transportation services and is not expected to be needed in the future.

BEA proposes to collect country detail for BE-37 survey item 1, revenue from carriage of export freight and express originating from the United States to points outside the United States, and item 2, revenue from carriage of freight and express originating from, and destined to, points outside the United States. Currently, only global totals are collected for these items. Requiring airlines to report these two items by country will improve the quality of the geographic statistics BEA disseminates.

BEA proposes to add U.S. airliners' in-flight sales revenue (total and by region) and expand the information collected on number of passengers to include the region, on the BE-37 survey. In-flight sales are revenues of the airline or a vendor for the purposes of consumption on the aircraft (food, drinks, Wi-Fi, pillows, etc.). The data will be used to close a gap in the ancillary fees component of air passenger transport. Collecting this information by region will allow BEA to produce more detailed statistics on trade in transport services because large differences exist across regions in per-passenger ancillary fee revenue, mostly corresponding to length of flight. BEA proposes to collect this item and number of passengers by region according to the three regional designations outlined by the U.S. Department of Transportation in 14 CFR 241.21(g)—Atlantic Ocean, Pacific Ocean, and Latin America. These designations group Canada within the domestic category. Although revenue and expenses for Canada must be included in all other items on this survey, Canada will be excluded from the item on in-flight sales revenue and number of passengers.

Additionally, BEA proposes to collect two additional airline identification elements on the BE-37 survey: the U.S. airline's International Air Transport Association (IATA) and International Civil Aviation Organization (ICAO) codes. These elements will enable BEA to match information reported on the BE-37 with supplemental information received from other government agencies and increase the quality and accuracy of BEA's statistics on trade in services.

BEA also proposes to change the due dates of the BE-30 and BE-37 surveys to 30 days after the close of each quarter from 45 days. Shortening the reporting timeline will allow BEA to produce more accurate and complete trade in transport services statistics in preliminary estimates of the ITAs, which is critical information for policymakers' timely decisions on international trade policy. The earlier due date will allow BEA to use more reported data for preliminary statistics, improving the accuracy of both the aggregates and the country detail, reducing revisions in subsequent statistical releases.

BEA estimates there will be a one hour increase in the average burden for completing the BE-37 survey with data, from 4 to 5 hours pers response, primarily as a result of the requirement to report country detail for revenue from the carriage of freight and express. There will be no change in the average number of burden hours per response for the BE-30 survey, currently estimated to be 4 hours. The language in the instructions and definitions will be reviewed and adjusted as necessary to clarify survey requirements.

II. Method of Collection

BEA contacts potential respondents by mail at the end of each quarter. Respondents would be required to file the completed BE-30 and BE-37 forms within 30 days after the end of each quarter.

BE-30 reports would be required from each U.S. ocean freight carrier (owners and operators) that engaged in the international transportation of freight, cargo, and/or passengers between U.S. and foreign ports or between foreign ports, whose total covered revenues or total covered expenses were $500,000 or more in the previous year or are expected to be $500,000 or more during the current year.

BE-37 reports would be required from each from U.S. airline operator engaged in the international transportation of passengers or of U.S. export freight, or the transportation of freight or passengers between two foreign points, whose total covered revenues or total covered expenses were $500,000 or more in the previous year or are expected to be $500,000 or more during the current year.

Entities required to report on the BE-30 and BE-37 surveys will be contacted individually by BEA. Entities not contacted by BEA have no reporting responsibilities.

BEA offers its electronic filing option, the eFile system, for use in reporting on Forms BE-30 and BE-37. For more information about eFile, go to www.bea.gov/efile. In addition, BEA posts all its survey forms and reporting instructions on its website, www.bea.gov/ssb. These may be downloaded, completed, printed, and submitted via fax or mail.

III. Data

OMB Control Number: 0608-0011.

Form Number(s): BE-30 and BE-37.

Type of Review: Regular submission.

Affected Public: U.S. ocean carriers and U.S. airline operators.

Estimated Number of BE-30 Respondents: 200 annually (50 filed each quarter; 48 reporting mandatory data, and 2 that would file exemption claims or voluntary responses).

Estimated Number of BE-37 Respondents: 120 annually (30 filed each quarter; 28 reporting mandatory data, and 2 that would file an exemption claim or voluntary response).

Estimated Time per Response: For the BE-30, 4 hours is the average for those reporting data and one hour is the average for those filing an exemption claim. For the BE-37, 5 hours is the average for those reporting data and one hour is the average for those filing an exemption claim. For the BE-30 and BE-37 surveys, hours may vary considerably among respondents because of differences in company size and complexity.

Estimated Total Annual Burden Hours: 1,344 (776 for the BE-30; 568 for the BE-37).

Estimated Total Annual Cost to Public: $0.

Respondent's Obligation: Mandatory.

Legal Authority: International Investment and Trade in Services Survey Act (Pub. L. 94-472, 22 U.S.C. 3101-3108, as amended).

IV. Request for Comments

Comments are invited on: (a) Whether the proposed collection of information is necessary for the proper performance of the functions of the Agency, including whether the information will have practical utility; (b) the accuracy of the Agency's estimate of the burden (including hours and cost) of the proposed collection of information; (c) ways to enhance the quality, utility, and clarity of the information to be collected; and (d) ways to minimize the burden of the collection of information on respondents, including through the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-20282 Filed 9-17-21; 8:45 am]

BILLING CODE 3510-06-P